DEPARTMENT OF LABOR

Employment and Training Administration

[TA-W-61,357]

Medtronic Vascular; Santa Rosa, CA; Notice of Termination of Investigation

Pursuant to Section 221 of the Trade Act of 1974, as amended, an investigation was initiated on April 23, 2007 in response to a petition filed by a company official on behalf of workers of Medtronic Vascular, Santa Rosa, California.

The petitioner has requested that the petition be withdrawn. Consequently, the investigation has been terminated.

Signed at Washington, DC, this 7th day of May 2007.
Linda G. Poole,
Certifying Officer, Division of Trade Adjustment Assistance.

[FR Doc. E7-9108 Filed 5-10-07; 8:45 am]

BILLING CODE 4510-FN-P